DEPARTMENT OF LABOR

Mine Safety and Health Administration

Coal Mine Dust Sampling Devices; Correction

AGENCY: Mine Safety and Health Administration, Labor.

ACTION: Notice; correction.

SUMMARY: On April 30, 2013, Mine Safety and Health Administration (MSHA) published a notice in the Federal Register, docket number [MSHA-2013-0008], announcing the proposed extension of a currently approved information collection involving Continuous Personal Dust Monitors (CPDMs). In the ADDRESSES section of the notice MSHA incorrectly listed the OMB number as 1219-0001. This notice corrects that error and clarifies that comments concerning the information collection requirements of this notice must be clearly identified with “OMB 1219-0147” and sent to the MSHA.

FOR FURTHER INFORMATION CONTACT: Sheila McConnell, Deputy Director, Office of Standards, Regulations, and Variances, MSHA, at McConnell.Sheila.A@dol.gov (email); 202-693-9440 (voice); or 202-693-9441 (facsimile).

Authority: 44 U.S.C. 3506(c)(2)(A).

Dated: May 6th, 2013.
George F. Triebsch,
Certifying Officer.

[FR Doc. 2013-11129 Filed 5-9-13; 8:45 am]

BILLING CODE 4510-43-P